DEPARTMENT OF TRANSPORTATION

Federal Aviation Administration

14 CFR Part 23

[Docket No. CE252, Special Condition No. 23-192-SC]

Special Conditions; Cessna Aircraft Company Model 510 Airplane; Full Authority Digital Engine Control (FADEC) System

AGENCY: Federal Aviation Administration (FAA), DOT.

ACTION: Final special conditions; request for comments; correction.

SUMMARY: On June 16, 2006, we published a document on special conditions for Cessna Aircraft Company on the Model 510 airplane for full authority digital engine control system. There was an error in the background of the document in reference to the future type certificate number. This notice removes that sentence from the background; no change to the special conditions portion is necessary.

DATES: Comments must be received on or before July 17, 2006.

ADDRESSES: Comments on this proposal may be mailed in duplicate to: Federal Aviation Administration, Regional Counsel, ACE-7, Attention: Rules Docket Clerk, Docket No. CE252, Room 506, 901 Locust, Kansas City, Missouri 64106. All comments must be marked: Docket No. CE252. Comments may be inspected in the Rules Docket weekdays, except Federal holidays, between 7:30 a.m. and 4 p.m.

FOR FURTHER INFORMATION CONTACT: Peter L. Rouse, Aerospace Engineer, Standards Office (ACE-110), Small Airplane Directorate, Aircraft Certification Service, Federal Aviation Administration, Room 301, 901 Locust Street, Kansas City, Missouri 64106; telephone (816) 329-4135.

SUPPLEMENTARY INFORMATION:

Need for Correction

The FAA published a document on June 16, 2006 (71 FR 34789), that issued final special conditions with a request for comments. In the background, the sentence “The Cessna 510 will be approved under TC No. A24CE” appears. However, this will not be the type certificate number for the airplane, and this sentence is removed from the background to correct the error. There will be no change to the special conditions.

Correction of Publication

Accordingly, the background of the special conditions is revised to remove the sentence, “The Cessna 510 will be approved under TC No. A24CE” from the document.

Comments Invited

Interested persons are invited to participate in the making of these special conditions by submitting such written data, views, or arguments as they may desire. Communications should identify the regulatory docket or notice number and be submitted in duplicate to the address specified above. All communications received on or before the closing date for comments will be considered by the Administrator. The proposals described in this notice may be changed in light of the comments received. All comments received will be available in the Rules Docket for examination by interested persons, both before and after the closing date for comments. A report summarizing each substantive public contact with FAA personnel concerning this rulemaking will be filed in the docket. Persons wishing the FAA to acknowledge receipt of their comments submitted in response to this notice must include with those comments a self-addressed stamped postcard on which the following statement is made: “Comments to Docket No. CE252.” The postcard will be date stamped and returned to the commenter.

Background

The original background of the special conditions contained the following sentence: “The Cessna 510 will be approved under TC No. A24CE.” This type certificate number is incorrect, and the sentence is removed from the background of the special conditions. Since this change has no effect on the special conditions, the remainder of the document, which includes the special condition portion, will not be changed.

Issued in Kansas City, Missouri on June 23, 2006.
John Colomy,
Acting Manager, Small Airplane Directorate, Aircraft Certification Service.

[FR Doc. E6-10469 Filed 7-11-06; 8:45 am]

BILLING CODE 4910-13-P